INTERNATIONAL TRADE COMMISSION

[Investigation No. 731-TA-298 (Fourth Review)]

Porcelain-on-Steel Cooking Ware From China; Determination

On the basis of the record ¹ developed in the subject five-year review, the United States International Trade Commission (“Commission”) determines, pursuant to the Tariff Act of 1930 (“the Act”), that revocation of the antidumping duty order on porcelain-on-steel cooking ware from China would be likely to lead to continuation or recurrence of material injury to an industry in the United States within a reasonably foreseeable time.²

¹ The record is defined in sec. 207.2(f) of the Commission's Rules of Practice and Procedure (19 CFR 207.2(f)).

² Commissioner Meredith A. Broadbent not participating.

Background

The Commission, pursuant to section 751(c) of the Act (19 U.S.C. 1675(c)), instituted this review on February 1, 2016 (81 FR 5133) and determined on May 6, 2016 that it would conduct an expedited review (81 FR 32345, May 23, 2016).

The Commission made this determination pursuant to section 751(c) of the Act (19 U.S.C. 1675(c)). It completed and filed its determination in this review on July 22, 2016. The views of the Commission are contained in USITC Publication 4625 (July 2016), entitled Porcelain-on-Steel Cooking Ware from China: Investigation No. 731-TA-298 (Fourth Review).

By order of the Commission.
Issued: July 22, 2016.
Lisa R. Barton,
Secretary to the Commission.

[FR Doc. 2016-17831 Filed 7-27-16; 8:45 am]

BILLING CODE 7020-02-P